DEPARTMENT OF LABOR

Employment and Training Administration

[NAFTA-05251 and NAFTA-05251A]

Williamette Industries, Inc., Korpine Particleboard Division Including Temporary Workers of Express Personnel Services Bend, Oregon; Williamette Industries, Inc., Particleboard Sales Office Albany, Oregon; Amended Certification Regarding Eligibility To Apply for NAFTA-Transitional Adjustment Assistance

In accordance with section 250(a), Subchapter D, Chapter 2, Title II, of the Trade Act of 1974, as amended (19 U.S.C. 2273), the Department of Labor issued a Certification of Eligibility to Apply for NAFTA Transitional Adjustment Assistance on December 7, 2001, applicable to workers of Willamette Industries, Inc., Korpine Division, Bend, Oregon. The Notice was published in the Federal Register on December 26, 2001 (66 FR 66427).

At the request of the State agency, the Department reviewed the certification for workers of the subject firm. Informational provided by the State and the company shows that temporary workers of Express Personnel were employed at Willamette Industries, Korpine Particleboard Division of produced industrial pine particleboard at the Bend, Oregon location of the subject firm.

Information also shows that worker separations occurred at the Particleboard Sales Office, Albany Oregon. Workers provide sales function services for the Korpine Particleboard Division of the subject firm.

Based on these findings, the Department is amending the certification to include temporary workers of Express Personnel Services, Bend, Oregon Employed at Willamette Industries, Inc., Korpine Particleboard Division, Bend, Oregon and to include the Particleboard Sales Office, Albany, Oregon.

The intent of the Department's certification is to include all workers of Willamette Industries, Inc., Korpine Particleboard Div. affected by increased customer imports of industrial pine particleboard from Canada and Mexico.

The amended notice applicable to NAFTA-95251 is hereby issued as follows:

All workers of Willamette Industries, Inc., Korpine Particleboard Division, Bend, Oregon including temporary workers of Express Personnel Services, Bend,Oregon (NAFTA-5251) engaged in employment related to the production of industrial pine particleboard at Willamette Industries, Inc., Korpine Particleboard Division, Bend, Oregon, and all workers of Willamette Industries, Particleboard Sales Office, Albany, Oregon (NAFTA-5251A) who became totally of partially separated from employment on or after August 17, 2000, through December 7, 2003, are eligible to apply for NAFTA-TAA under Section 250 of the Trade Act of 1974.

Signed in Washington, DC, this 4th day of February, 2002.
Linda G. Poole,
Certifying Officer, Division of, Trade Adjustment Assistance.

[FR Doc. 02-3408 Filed 2-12-02; 8:45 am]

BILLING CODE 4510-30-M